DEPARTMENT OF THE TREASURY

Submission for OMB Review; Comment Request

August 14, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

Dates: Written comments should be received on or before September 19, 2002 to be assured of consideration.

Internal Revenue Service

OMB Number: 1545-0120.

Form Number: IRS Form 1099-G.

Type of Review: Extension.

Title: Certain Government and Qualified State Tuition Program Payments.

Description: Form 1099-G is used by governments (primarily state and local) to report to the IRS (and notify recipients of) certain payments (e.g., unemployment compensation and income tax refunds). IRS uses the information to insure that the income is being properly reported by the recipients on their returns.

Respondents: Federal Government, State, Local or Tribal Government.

Estimated Number of Respondents: 2,900.

Estimated Burden Hours Per Respondent: 11 minutes.

Frequency of Response: Annually.

Estimated Total Reporting Burden: 11,590,000 hours.

OMB Number: 1545-0126.

Form Number: IRS Form 1120-F.

Type of Review: Revision.

Title: U.S. Income Tax Return of a Foreign Corporation.

Description: Form 1120-F is used by foreign corporations that have investments, or a business, or a branch in the U.S. The IRS uses Form 1120-F to determine if the foreign corporation has correctly reported its income, deductions, and tax, and to determine if it has paid the correct amount of tax.

Respondents: Business or other for-profit.

Estimated Number of Respondents/Recordkeepers: 21,618.

Estimated Burden Hours Per Respondent/Recordkeeper:

Recordkeeping—105 hr., 28 min.

Learning about the law or the form-41 hr., 9 min.

Preparing the form—68 hr., 52 min.

Copying, assembling, and sending the form to the IRS—61 hr., 58 min.

Frequency of Response: Annually.

Estimated Total Reporting/Recordkeeping Burden: 4,809,573 hours.

OMB Number: 1545-1007.

Form Number: IRS Form 8606.

Type of Review: Revision.

Title: Nondeductible IRAs.

Description: Internal Revenue Code (IRC) section 408(o) requires certain information regarding nondeductible contributions to traditional IRAs (reported on Part I of Form 8606). IRC section 408A(d) requires information regarding conversions from traditional IRAs to Roth IRAs and distributions from Roth IRAs (reported on Parts II & III of Form 8606). IRC section 530 requires information regarding distributions from ED IRAs (reported on Part IV of Form 8606).

Respondents: Individuals or households.

Estimated Number of Respondents/Recordkeepers: 1,800,000.

Estimated Burden Hours Per Respondent/Recordkeeper:

Recordkeeping—1 hr., 4 min.

Learning about the law or the form—1 hr., 12 min.

Preparing the form—49 min.

Copying, assembling, and sending the form to the IRS—41 min.

Frequency of Response: Annually.

Estimated Total Reporting/Recordkeeping Burden: 2,427,770 hours.

OMB Number: 1545-1653.

Revenue Procedure Number: Revenue Procedure 99-26.

Type of Review: Extension.

Title: Secured Employee Benefits Settlement Initiative.

Description: This revenue procedure provides taxpayers options to settle cases in which they accelerated deductions for accrued employee benefits secured by a letter of credit, bond, or other similar financial instrument.

Respondents: Business or other for-profit.

Estimated Number of Respondents/Recordkeepers: 100.

Estimated Burden Hours Per Respondent/Recordkeeper: 20 hours.

Frequency of Response: Other (one-time).

Estimated Total Reporting/Recordkeeping Burden: 2,000 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Mary A. Able,
Departmental Reports Management Officer.

[FR Doc. 02-21164 Filed 8-19-02; 8:45 am]

BILLING CODE 4830-01-P